DEPARTMENT OF HOMELAND SECURITY

[Docket No. DHS-2010-0050]

National Protection and Programs Directorate; President's National Security Telecommunications Advisory Committee

AGENCY: National Protection and Programs Directorate, DHS.

ACTION: Committee Management; Notice of an open Federal Advisory Committee Meeting.

SUMMARY: The President's National Security Telecommunications Advisory Committee (NSTAC) will meet on Wednesday, January 19, 2011, via a conference call.

DATES: The NSTAC will meet Wednesday, January 19, 2011, from 2 p.m. to 3 p.m. For access to the conference bridge and meeting materials, please contact Sue Daage at (703) 235-4964 or by e-mail at sue.daage@dhs.gov.

ADDRESSES: The meeting will be held via a conference call.

FOR FURTHER INFORMATION CONTACT: James Madon, NSTAC Designated Federal Officer, Department of Homeland Security, telephone (703) 235-4900.

SUPPLEMENTARY INFORMATION: Notice of this meeting is given under the Federal Advisory Committee Act (FACA), 5 U.S.C. App. (Pub. L. 92-463). The NSTAC advises the President on matters related to national security and emergency preparedness telecommunications policy. The new NSTAC Chair, James Crowe, Chief Executive Officer (CEO), Level 3 Communications, will call the meeting to order and provide opening remarks. The new Vice Chair Maggie Wilderotter, Chairman and Chief Executive Officer, Frontier Communications, also will provide opening remarks. Government stakeholders will welcome the new NSTAC Chair and Vice Chair, present the new NSTAC By-laws, and discuss potential future taskings for the NSTAC in 2011. In addition, the NSTAC Principals plan to discuss the Cybersecurity Collaboration Task Force Report and receive an update on the work of the Communications Resiliency Task Force.

Meeting Agenda:

I. Opening of Meeting

II. Roll Call of Members

III. Opening Remarks and Introductions

IV. Presentation on New By-laws and Discussion of Potential Future Taskings for the NSTAC in 2011

V. Discussion of the Cybersecurity Collaboration Task Force Report

VI. Communications Resiliency Task Force Update

VII. Closing Remarks

VIII. Adjournment

Procedural:

While this meeting is open to the public, participation in the NSTAC deliberations is limited to committee members and appropriate Federal Government officials. Discussions may include committee members, appropriate Federal Government officials, and other invited persons attending the meeting to provide information that may be of interest to the committee.

For access to the conference bridge and meeting materials, contact Sue Daage at (703) 235-4964 or by e-mail at sue.daage@dhs.gov by 5 p.m. January 13, 2011. Written comments may be sent to the Deputy Manager, National Communications System, National Protection and Programs Directorate, Department of Homeland Security, 245 Murray Lane, Mail Stop 0615, Washington, DC 20598-0615. Written comments must be received by the Deputy Manager no later than January 12, 2011, identified by Federal Register Docket Number DHS-2010-0050 and may be submitted by any one of the following methods:

• Federal eRulemaking Portal: http://www.regulations.gov. Follow the instructions for submitting written comments.

• E-mail: Include the docket number in the subject line of the e-mail message.

• Fax: (703) 235-4981.

• Mail: Deputy Manager, National Communications System, National Protection and Programs Directorate, Department of Homeland Security, 245 Murray Lane, Mail Stop 0615, Washington, DC 20598-0615.

Instructions: All written submissions received must include the words “Department of Homeland Security” and the docket number for this action. Written comments received will be posted without alteration at http://www.regulations.gov, including any personal information provided.

Docket: For access to the docket to read background documents or comments received by the NSTAC, go to http://www.regulations.gov.

Information on Services for Individuals with Disabilities:

Persons with disabilities who require special assistance should indicate this when arranging access to the teleconference and are encouraged to identify anticipated special needs as early as possible.

Dated: December 16, 2010.
James Madon,
Designated Federal Officer for the NSTAC.

[FR Doc. 2010-32709 Filed 12-28-10; 8:45 am]

BILLING CODE 9110-9P-P